NUCLEAR REGULATORY COMMISSION

Documents Containing Reporting or Recordkeeping Requirements: Office of Management and Budget (OMB) Review

AGENCY: U.S. Nuclear Regulatory Commission (NRC).

ACTION: Notice of the OMB review of information collection and solicitation of public comment.

SUMMARY: The NRC has recently submitted to OMB for review the following proposal for the collection of information under the provisions of the Paperwork Reduction Act of 1995 (44 U.S.C. Chapter 35).

1. Type of submission, new, revision, or extension: Revision.

2. The title of the information collection: Final Rule—10 CFR part 110, Export and Import of Radioactive Materials: Security Policies.

3. The form number if applicable: Not applicable.

4. How often the collection is required: On occasion.

5. Who will be required or asked to report: Any licensee who wishes to export or import the radioactive material subject to the requirements of a specific license listed in Table 1 of the new appendix P to part 110.

6. An estimate of the number of annual responses: 950.

7. The estimated number of annual respondents: 30.

8. An estimate of the total number of hours needed annually to complete the requirement or request: 437.5 hours ( 30 minutes per notification and 15 minutes per recipient's certification to licensee).

9. An indication of whether Section 3507(d), Pub. L. 104-13 applies: Applicable.

10. Abstract: The Nuclear Regulatory Commission (NRC) is amending its regulations pertaining to the export and import of nuclear equipment and radioactive materials. This final rule reflects recent changes to the nuclear and radioactive material security policies of the Commission and the Executive Branch, for the import and export of radioactive material. A specific license will be required for the import and export of the radioactive material listed in Table 1 of the new appendix P to this part.

A copy of the supporting statement may be viewed free of charge at the NRC Public Document Room, One White Flint North, 11555 Rockville Pike, Room O-1 F21, Rockville, MD 20852. OMB clearance packages are available at the NRC Worldwide Web site: http://www.nrc.gov/public-involve/doc-comment/omb/index.html. The document will be available on the NRC home page site for 60 days after the signature date of this notice.

Comments and questions should be directed to the OMB reviewer by July 25, 2005: John A. Asalone, Office of Information and Regulatory Affairs (3150-AH44), NEOB-10202, Office of Management and Budget.

Comments can also be e-mailed to John A. Asalone@omb.eop.gov or submitted by telephone at (202) 395-4650.

The NRC Clearance Officer is Brenda Jo. Shelton, 301-415-7233.

Dated at Rockville, Maryland, this 19th day of May 2005.
For the Nuclear Regulatory Commission.
Brenda J. Shelton,
NRC Clearance Officer, Office of Information Services.

[FR Doc. 05-10550 Filed 5-25-05; 8:45 am]

BILLING CODE 7590-01-P